DEPARTMENT OF TRANSPORTATION

Federal Highway Administration

Environmental Impact Statement: Walton and Bay Counties, Florida

AGENCY: Federal Highway Administration (FHWA), DOT.

ACTION: Notice of intent.

SUMMARY: The FHWA is issuing this notice to advise the public that an Environmental Impact Statement (EIS) will be prepared for a proposed highway project in Walton and Bay Counties, Florida.

FOR FURTHER INFORMATION CONTACT: Ms. Cathy Kendall, Environmental Specialist, Federal Highway Administration, 545 John Knox Road, Suite 200, Tallahassee, FL, 32303, Telephone (850) 553-2225

SUPPLEMENTARY INFORMATION: The FHWA, in partnership with the Florida Department of Transportation (FDOT) will prepare an EIS for a proposal to develop a new alignment extension of CR 388 from SR 79 in Bay County, FL westward to SR 30 (US 98) in Walton County, FL. The FDOT refers to this project as West Bay Parkway, Segment 1. This proposed Segment 1 project would extend CR 388 to the west from its current western terminus at SR 79 and provide a new four-lane divided highway and potentially a new high level bridge across the Intracoastal Waterway (ICWW). Depending on the alternative selected, the project is approximately 9 to 12 miles in length.

Alternatives under consideration include (1) Taking no action; (2) widening SR 30 (US 98) to a six or eight lane divided roadway; (3) alternate corridors.

Letters describing the proposed action and soliciting comments will be sent to appropriate Federal, State, and local agencies, and to private organizations and citizens who have expressed interest in this proposal.

A series of public meetings in Santa Rosa Beach in Walton County, and Panama City Beach in Bay County began in April 2010 and will continue to be held through December 2012. In addition a public hearing will be held. Public notice will be given for the time and place of the meetings and hearing. The Draft EIS will be made available for public and agency review and comment. Additional project information can be found at the following web address: http://www.westbayparkway.com.

To ensure that the full range of issues related to the proposed action is addressed and all significant issues identified, comments and suggestions are invited from all interested parties. Comments or question concerning this proposed action and the EIS should be directed to the FHWA at the address provided above.

(Catalog of Federal Domestic Assistance Program Number 20.205, Highway Research, Planning and Construction. The regulations implementing Executive Order 12372 regarding inter-governmental consultation on Federal programs and activities apply to this program.)

Issued on: September 27, 2011.
Martin C. Knopp,
Division Administrator, Tallahassee, FL .

[FR Doc. 2011-25360 Filed 10-3-11; 8:45 am]

BILLING CODE 4910-22-P